DEPARTMENT OF THE TREASURY

Submission for OMB Review; Comment Request

November 29, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 5, 2006 to be assured of consideration.

Alcohol and Tobacco Tax and Trade Bureau (TTB)

OMB Number: 1513-0112.

Type of Review:Revision.

Title: Special Tax Registration and Return Alcohol and Tobacco.

Form: TTB form F 5630.5.

Description: U.S.C. Chapter 51 and 52 authorize the collection of an occupational tax from persons engaging in certain alcohol and tobacco businesses. TTB F 5630.5 is used to both compute and report the tax, and as an application for registry as required by statute. Upon receipt of the tax a special tax stamp is issued.

Respondents: Business or other for-profit, Individuals or households and Not-for-profit institutions.

Estimated Total Burden Hours: 48,374 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Michael A. Robinson,
Treasury PRA Clearance Officer.

[FR Doc. E5-6856 Filed 12-5-05; 8:45 am]

BILLING CODE 4810-31-P